NUCLEAR REGULATORY COMMISSION

[Docket No. 50-305; NRC-2010-0041]

Dominion Energy Kewaunee, Inc. Kewaunee Power Station; Notice of Availability of the Final Supplement 40 to the Generic Environmental Impact Statement for License Renewal of Nuclear Plants Regarding the License Renewal of Kewaunee Power Station

Notice is hereby given that the U.S. Nuclear Regulatory Commission (NRC) has published a final plant-specific supplement to the Generic Environmental Impact Statement for License Renewal of Nuclear Plants (GEIS), NUREG-1437, regarding the renewal of Operating License DPR-43 for an additional 20 years of operation for Kewaunee Power Station (KPS). The KPS site is located on the shore of Lake Michigan, approximately 27 miles east-southeast of Green Bay, WI. Possible alternatives to the proposed action (license renewal) include no action and reasonable alternative energy sources.

As discussed in Section 9.4 of the final supplement, the staff determined that the adverse environmental impacts of license renewal for KPS are not great enough to deny the option of license renewal for energy-planning decision makers. This recommendation is based on: (1) The analysis and findings in the GEIS; (2) information provided in the environmental report submitted by Dominion Energy Kewaunee, Inc.; (3) consultation with Federal, State, and local agencies; (4) the staff's own independent review; and (5) consideration of public comments received during scoping and on the draft Supplemental Environmental Impact Statement.

The final Supplement 40 to the GEIS is publicly available at the NRC Public Document Room (PDR), located at One White Flint North, Public File Area O-1F21, 11555 Rockville Pike, Rockville, Maryland 20852, or from the NRC's Agencywide Documents Access and Management System (ADAMS). The ADAMS Public Electronic Reading Room is accessible at http://www.nrc.gov/reading-rm/adams.html. The accession number for the final Supplement 40 to the GEIS is ML102280229. Persons who do not have access to ADAMS or who encounter problems in accessing the documents located in ADAMS, should contact the NRC's PDR reference staff by telephone at (800) 397-4209 or (301) 415-4737, or by e-mail at pdr.resource@nrc.gov. In addition, the Kewaunee Public Library, 822 Juneau Street, Kewaunee, Wisconsin 54216, has agreed to make the final supplement available for public inspection.

For Further Information Contact: Mr. Daniel Doyle, Projects Branch 1, Division of License Renewal, Office of Nuclear Reactor Regulation, U.S. Nuclear Regulatory Commission, Mail Stop O-11F1, Washington, DC 20555-0001. Mr. Doyle may be contacted by telephone at (800) 368-5642, extension 3748, or by e-mail at daniel.doyle@nrc.gov.

Dated at Rockville, Maryland, this 19th day of August 2010.
For the Nuclear Regulatory Commission.
Bo Pham,
Chief, Projects Branch 1 Division of License Renewal Office of Nuclear Reactor Regulation.

[FR Doc. 2010-21127 Filed 8-24-10; 8:45 am]

BILLING CODE 7590-01-P